DEPARTMENT OF AGRICULTURE

Submission for OMB Review; Comment Request

June 2, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, D.C. 20503 and to Departmental Clearance Office, USDA, OCIO, Mail Stop 7602, Washington, D.C. 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Rural Housing Service

Title: 7 CFR 1951-A, Account Servicing Policies.

OMB Control Number: 0575-0075.

Summary of Collection: The Rural Housing Service (RHS) provides supervised credit in the form of Single Family Housing, Multi-Family Housing, and Community Facility loans and grants. Regulation 7 CFR 1951-A sets forth the policies and procedures, including the collection and use of information, regarding the application of payments on loans made under the programs administered by the agencies and the return of paid-in-full and satisfied promissory notes.

Need and Use of the Information: Information collection is submitted by Agency borrowers to the local Agency office servicing the county in which their operation is located and is used by agency servicing officials. The collection of information is required only when needed on an individual case basis.

Description of Respondents: Individuals or households; business or other for-profit.

Number of Respondents: 110.

Frequency of Responses: Reporting: On occasion.

Total Burden Hours: 28.

Rural Utilities Service

Title: 7 CFR 1780, Water and Waste Disposal Loan and Grant Program.

OMB Control Number: 0572-NEW.

Summary of Collection: The Rural Utilities Service (RUS) is authorized by Section 306 of the Consolidated Farm and Rural Development Act (7 U.S.C. 1926) to make loans to public agencies, American Indian tribes, and nonprofit corporations for the development of drinking water and wastewater, and solid waste disposal facilities in rural areas of up to 10,000 residents. These regulations were also used to administer the Community Facilities programs, whose functions the Rural Housing Service also had assumed from Farmers Home Administration (FmHA) and Rural Development Administration (RDA). RUS amended the regulations to establish separate regulations for the Water and Waste Disposal programs. RUS also replaced references to FmHA and RDA with references to RUS and its officials.

Need and Use of the Information: RUS state and field offices will collect information from applicants, borrowers, and consultants to determine eligibility and project feasibility, and to ensure borrowers operate on a sound basis and use loan and grant funds for authorized purposes. Failure to collect proper information could result in improper determinations of eligibility or improper use of funds.

Description of Respondents: State, Local or Tribal Government; Not-for-profit institutions.

Number of Respondents: 5,800.

Frequency of Responses: Recordkeeping; reporting: On occasion; Weekly; Annually.

Total Burden Hours: 134,240.

Animal and Plant Health Inspection Service

Title: Federal Plant Pest and Noxious Weeds Regulations.

OMB Control Number: 0579-0054.

Summary of Collection: The Plan Protection and Quarantine Program of the Animal and Plant Health Inspection Service (APHIS), United States Department of Agriculture is responsible for preventing plant pests and noxious weeds from entering the United States, preventing the spread of pests and weeds not widely distributed in the United States, and eradicating those imported pests and weeds when eradication is feasible. Section 150bb of the Federal Plant Pest Act (7 U.S.C. 150aa-150jj) and Section 4(a) of the Federal Noxious Weed Act (7 U.S.C. 2801-2813) provide that no plant pest or noxious weed can be moved from a foreign country into or through the United States, or interstate, unless the movement is authorized under a permit issued by the Secretary of Agriculture and the movement is carried out in accordance with the conditions the Secretary may prescribe to prevent the dissemination of plant pests or noxious weeds into the United States. APHIS will collect information using forms PPQ 525A, 526, 526-1, and 519.

Need and Use of the Information: APHIS will collect information to evaluate the risk associated with the proposed movement of plant pest, noxious weeds, and soil. APHIS will also collect information to monitor operations at facility to ensure permit conditions are being met. The information is used to determine whether a permit can be issued, and also to develop risk-mitigating conditions for the proposed movement. If the information were not collected, APHIS' ability to protect the United States from a plant pest or noxious weed incursion would be significantly compromised.

Description of Respondents: Business or other for-profit; individuals or households; Federal Government; State, Local or Tribal Government.

Number of Respondents: 40,312.

Frequency of Responses: Reporting: On occasion.

Total Burden Hours: 38,133.

Animal and Plant Health Inspection Service

Title: Conifer Solid Wood Packing Material to China, Export Certification.

OMB Control Number: 0579-0147.

Summary of Collection: The Plant Protection and Quarantine Program of the Animal and Plant Health Inspection Service (APHIS), United States Department of Agriculture is responsible for preventing plant diseases or insect pest from entering the United States, preventing the spread of pests not widely distributed in the United States, and eradicating those imported pests and weeds when eradication is feasible. The Federal Plant Pest Act authorizes the Department to carry out this mission. APHIS provides export certification services to assure other countries that the plants and plant products (as well as associated packing materials) they are receiving from the United States are free of prohibited (or regulated) plant diseases and insect pest. Effective January 1, 2000, the government of China requires goods from the United States to be accompanied by either a statement from the exporter that the shipment does not contain any softwood (conifer) packing materials, or by an APHIS-issued certificate certifying that the conifer packing materials in the shipment have been heat treated by being subjected to a minimum core temperature of 56 degrees Celsius for 30 minutes. APHIS will collect information using form PPQ 553.

Need and Use of the Information: APHIS will collect the names and address of the exporter and the consignee and a description of the consignment. APHIS will also collect information certifying that heat treatment has been performed, as well as the actual certification. The information is needed to assure China that conifer packing materials from the United States do not harbor insect pests such as the pine wood nematode. If the information is not collected this would cause China to refuse any shipments from the United States that contained conifer packing materials.

Description of Respondents: Business or other for-profit; individuals or households; not-for-profit institutions; Farms; Federal Government; State, Local or Tribal Government.

Number of Respondents: 6,500.

Frequency of Responses: Recordkeeping; reporting: On occasion.

Total Burden Hours: 2,808.

Agricultural Marketing Service

Title: Marketing Order No. 917 for Peaches Grown in California.

OMB Control Number: 0581-0080.

Summary of Collection: Marketing Order No. 917 (7 CFR 917), regulates the handling of peaches grown in California and emanates from enabling legislation (The Agricultural Marketing Agreement (AMS) Act of 1937, Secs. 1-19, 48 Stat. 31, as amended; 7 U.S.C. 601-674). This legislation, hereinafter referred to as the Act, was designed to permit regulation of certain agricultural commodities for the purpose of providing orderly marketing conditions in interstate commerce and improving returns to producers. The Order authorizes the issuance of grade, size, and maturity regulations; inspection requirements; and marketing and production research, including paid advertising. Regulatory provisions apply to peaches shipped within and out of the area of production to any market, except those specifically exempted by the Order. There is no State order in effect at this time. The Order also has authority for production and marketing research and development projects. Data will be collected using AMS forms FV-75, FV-76, FM-91, FV-92, FV-93, and FV-103.

Need and Use of the Information: The committee powers, as set forth in the Order, are: (1) to administer the provisions of the Order in accordance with its terms; (2) to receive, investigate, and report to the Secretary complaints of violations of the Order; (3) to make and adopt rules and regulations to effectuate the Order; and (4) to recommend amendments to the Order.

Description of Respondents: Business or other for-profit; farms.

Number of Respondents: 2,287.

Frequency of Responses: Recordkeeping; reporting; on occasion, Monthly.

Total Burden Hours: 1,411.

Rural Housing Service

Title: 7 CFR 1924-F, Complaints and Compensation for Construction Defects.

OMB Control Number: 0575-0082.

Summary of Collection: This regulation provides instruction to all Rural Housing Service (RHS) personnel to enable them to implement a procedure to accept and process complaints from borrowers/owners against builders and dealers/contractors, to resolve the complaint informally and when the complaint involves structural defects which cannot be resolved by cooperation of the builder or dealer/contractor, authorizes expenditure to resolve the defect with grant funds. Resolution could involve expenditure for (1) repairing defects; (2) reimbursing for emergency repairs; (3) pay temporary living expenses or (4) convey dwelling to RHS with release of liability for the RHS loan. Information is collected using RD Form 1924-4.

Need and Use of the Information: The information is collected from Agency borrowers and the local Agency office serving the county in which the dwelling is located. This information is used by Rural Housing Staff to evaluate the request and assist the borrower in identifying possible causes and corrective actions. The information is collected on a case-by-case basis when initiated by the borrower. RHS has reviewed the program's need for the collection of information versus the burden placed on the public.

Description of Respondents: Business or for-profit.

Number of Respondents: 5,000.

Frequency of Responses: Reporting: On occasion.

Total Burden Hours: 1,350.

Office of Procurement and Property Management

Title: Maximum Workweek—Construction Schedule.

OMB Control Number: 0505-0011.

Summary of Collection: In order to obtain goods or services such as construction services, United States Department of Agriculture (USDA), like other Federal agencies, has established agency contracting offices to enter into Federal contracts. These offices employ contracting officers, who solicit bids or offers for work from businesses in the private sector. When USDA contracts from construction services, both the contracting officer and the contractor need to establish a schedule for the work. The contractor needs to ensure that his weekly work schedule will not conflict with the time during which USDA may allow him access to the work side. The contracting officer needs to know when the contractor will be working in order to schedule on-site conferences, to perform quality assurance inspections, and to perform compliance checks required to enforce the Davis Bacon Act (40 U.S.C. 276a-276a-7). Such compliance checks are specifically required by the Federal Acquisition Regulations (FAR) to conduct employee interviews, to check the type of work being performed, to verify the number and pay classification of workers at the site, and to verify that posters informing workers of their rights are displayed at the site (FAR 22.406-7(b)). Contracting officers put the Maximum Workweek—Construction Schedule clause in solicitations and contracts for construction when the contractor's access to the work site may be restricted to certain times of the day or week.

Need and Use of the Information: The Office of Procurement and Property Management (OPPM) will collect information to determine when government inspectors or representatives will be needed at the site, and to schedule contractor access to the work site. The information is not collected unless the contracting officer anticipates problems with contractor access or scheduling government inspections. If the information were not collected, contracting offices would be unable to allocate contract administration resources efficiently.

Description of Respondents: Business or other for-profit.

Number of Respondents: 600.

Frequency of Responses: Reporting: On occasion.

Total Burden Hours: 150.

Office of Procurement and Property Management

Title: Instructions for the Preparation of Technical and Business Proposals.

OMB Control Number: 0505-0013

Summary of Collection:

In order to obtain goods or services, the United States Department of Agriculture (USDA), like other Federal agencies, has established agency contracting offices to enter into Federal contracts. These offices employ contracting officers, who use various methods to award contracts for good or services. One method, prescribed by part 15 of the Federal Acquisition Regulation (FAR) is contracting by negotiation. In contracting by negotiation, contracting officers issue solicitations to request offers for required products or services from businesses in the private sector. Together with the solicitation document, the offeror's cost proposal and its technical and business proposals constitute the offer submitted to the contracting office for evaluation and acceptance. The technical proposal, together with the offeror's pricing, is needed to select the offeror who will be awarded a contract. The Agriculture Acquisition Regulation (AGAR) (48 CFR ch. 4) prescribes the provision titled Instructions for the Preparation of Technical and Business Proposals (48 CFR 452.215-71) help an offeror preparing a proposal to address the factors on which it will be evaluated.

Need and Use of the Information: The Office of Procurement and Property Management (OPPM) will collect information to evaluate and determine the feasibility of the offeror's management, technical approach, and offered cost/price to provide the services and/or supplies required if awarded a contract. If the information were not collected OPPM would be unable to obtain goods and services required for its daily operations.

Description of Respondents: Business or other for-profit; Not-for-profit institutions; State, Local, or Tribal Government.

Number of Respondents: 3,200.

Frequency of Responses: Reporting: On occasion.

Total Burden Hours: 112,000.

Office of Procurement and Property Management

Title: Brand Name or Equal Provision and Clause.

OMB Control Number: 0505-0014.

Summary of Collection: In order to obtain goods or services, the United States Department of Agriculture (USDA), like other Federal agencies, has established agency contracting offices to enter into Federal contracts. The Agriculture Acquisition Regulation (AGAR) (48 CFR ch. 4) and the (48 CFR 411.171), provision (48 CFR 452.211-70), and a clause (48 452.211-71) permits the use of “brand name or equal” purchase descriptions to procure commercial products. Such descriptions require the offeror on a supply procurement to identify the “equal” item being offered and to indicate how that item meets the salient characteristics stated in the purchase description. The use of brand name or equal descriptions eliminates the need for bidders or offerors to read and interpret detailed specifications or purchase descriptions.

Need and Use of the Information: The Office of Procurement and Property Management (OPPM) will collect information to determine from the descriptive information furnished whether the offered “equal” item meet the salient characteristics of the Government's requirements. If information were not collected, PPM would spend more time developing purchase descriptions and offerors would spend more time reading and interpreting the purchase descriptions.

Description of Respondents: Business or other for-profit.

Number of Respondents: 45,170.

Frequency of Responses: Reporting: On occasion.

Total Burden Hours: 4,517.

Office of Procurement and Property Management

Title: Procurement: Key Personnel Clause.

OMB Control Number: 0505-0015.

Summary of Collection: In order to obtain goods or services, the United States Department of Agriculture (USDA), like other Federal agencies, has established agency contracting offices to enter into Federal contracts. These offices employ contracting officers, who issue solicitations to request offers (proposals) for required products or services from businesses in the private sector. When USDA wishes to acquire research and development services (R&D), Information Technology (IT) design or support services, or advisory and assistance services, it must consider the capabilities of the personnel who the contractor assigns to the job. The contributions of certain contractor employees may be critical to the success of the work. Such employees are designated as “Key personnel.” The Agriculture Acquisition Regulation (AGAR) (48 CFR ch. 4) (48 CFR 437.110) and 48 CFR 452.237-74) prescribes the Key Personnel clause to collect information about key contractor personnel. The contracting officer uses the Key Personnel clause to require the contractor to inform USDA if a key person will no longer be available to perform work on the contract. Contractors whose contracts include the key personnel clause are required to notify the contracting officer about proposed substitutions for key personnel identified in the contract.

Need and Use of the Information: The Office of Procurement and Property Management (OPPM) will collect information to determine whether the departure of a key person from the contractor's staff could jeopardize contract performance, and to determine what accommodations or remedies may be taken. If the OPPM could not obtain information about departing key personnel, it could not ensure that qualified personnel continue to perform contract work.

Description of Respondents: Business or other for-profit; non-for-profit institutions; State, Local, or Tribal Government.

Number of Respondents: 200.

Frequency of Responses: Reporting: On occasion.

Total Burden Hours: 200.

Office of Procurement and Property Management

Title: Progress Reporting Clause.

OMB Control Number: 0505-0016.

Summary of Collection: In order to obtain goods or services, the United States Department of Agriculture (USDA), like other Federal agencies, has established agency contracting offices to enter into Federal contracts. These offices employ contracting officers, who request bids or offers for work from businesses in the private sector using solicitations. In order to administer contracts for research and development services (R&D), or for advisory and assistance services (AAS), contracting officers need information about contractor progress in performing the contracts. The Agriculture Acquisition Regulation (AGAR) (48 CFR ch.4) (48 CFR 437.270(a)) and (48 CFR 452.237-76) prescribe the Progress Reporting Clause to collect information about contractor progress. Contracting officers include the Progress Reporting Clause in R&D and AAS contracts to obtain information from the contractors about their performance.

Need and Use of the Information: The Office of Procurement and Property Management (OPPM) will collect information to compare actual progress and expenditures to anticipated performance and contractor representations on which the award was based. The information alerts the agency of technical problems; to the need for additional staff resources or finding; and to the probability of timely completion within the contract cost or price. If the contracting officers could not obtain progress report information, they would have to physically monitor the contractor's operation on a day to day basis throughout the performance period.

Description of Respondents: Business or other for-profit; non-for-profit institutions; State, Local, or Tribal Government.

Number of Repondents: 200.

Frequency of Responses: Reporting: Quarterly; monthly.

Total Burden Hours: 3,600.

Rural Housing Service

Title: 7 CFR 1940-G, Enviromental Program.

OMB Control Number: 0575-0094.

Summary of Collection: The National Environmental Policy Act (NEPA) requires Federal agencies, prior to the approval of proposed actions, to consider the potential environmental impacts of these actions. Consequently, for the Agencies to comply with NEPA, it is necessary that they have information on the types of environmental resources on site or in the vicinity that might be impacted by the proposed action, as well as information on the nature of the project selected by the applicant (the activities to be carried out at the site; any air, liquid and solid wastes produced by these activities, etc.). The agency will collect environmental data using form RD 1940-20.

Need and Use of the Information: The agency will collect information on the proposed project site and the activities to be conducted there. This will enable the Agency official to determine the magnitude of the potential environmental impacts and whether the project is controversial for environmental reasons.

Description of Respondents: Farms; individuals or households; Business or other for-profit; not-for-profit institutions; State, Local or Tribal Government.

Number of Respondents: 3,050.

Frequency of Responses: Reporting: On occasion.

Total Burden Hours: 15,320.

Barbara Lacour,
Departmental Clearance Officer.

[FR Doc. 00-14412 Filed 6-7-00; 8:45 am]

BILLING CODE 3410-01-M